ENVIRONMENTAL PROTECTION AGENCY

[EPA-HQ-OECA-2009-0986; FRL-9098-3]

Public Comment on Candidate National Enforcement and Compliance Assurance Priorities for Fiscal Years 2011-2013

AGENCY: Environmental Protection Agency (EPA).

ACTION: Notice of public comment Period.

SUMMARY: The Environmental Protection Agency (EPA) is soliciting public comment and recommendations on enforcement and compliance national priorities to be addressed for fiscal years 2011-2013. EPA selects these priority areas every three years in order to focus federal resources on the most important environmental problems where noncompliance is a significant contributing factor.

The U.S. Environmental Protection Agency, Office of Enforcement and Compliance Assurance is collecting external comment on the following preliminary set of national priority candidates for FY 2011-2013 listed on our Web site: http://www.epa.gov/compliance/data/planning/priorities/index.html.

This preliminary list is based on analysis of proposals received from states, EPA staff, tribes, and on-line public comments. Enforcement national priorities are not limited to those priority candidates on the above Web site and the public is invited to propose additional areas for consideration. Comments will be considered as part of the process EPA uses to identify and select enforcement and compliance national priorities. Final priority selection will be incorporated into the EPA Office of Enforcement and Compliance Assurance National Program Manager Guidance that provides national program direction for all EPA regional offices released in April 2010. EPA will consider these comments as it moves forward in the decision-making process, but will not respond to all comments received.

DATES: Comments must be received on or before January 19, 2009.

ADDRESSES: Information in support of this Notice of Public Comment is available via the Internet at: http://www.epa.gov/compliance/data/planning/priorities/index.html.

Submit your comments via http://www.regulations.gov, identified by Docket ID No. EPA-HQ-OECA-2009-0986; FRL-9098-3. Follow the on-line instructions for submitting comments.

Instructions: Direct your comments to Docket ID No. EPA-HQ-OECA-2009-0986. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA can not read your comment due to technical difficulties and cannot contact you for clarification, EPA may not be able to consider your comment. Electronic files should avoid the use of special characters, any form of encryption, and be free of any defects or viruses.

FOR FURTHER INFORMATION CONTACT: Christopher Knopes, Director, National Planning, Measures, and Analysis Staff, Office of Enforcement and Compliance Assurance, Mail Code: M2221A, Environmental Protection Agency, 1200 Pennsylvania Ave., NW., Washington, DC 20460; telephone number: 202-564-2337; fax number: 202-564-0027; e-mail address: knopes.christopher@epa.gov.

SUPPLEMENTARY INFORMATION:

I. What Are EPA Enforcement and Compliance National Priorities?

The Environmental Protection Agency (EPA) is voluntarily soliciting public comment and recommendations on enforcement and compliance national priorities to be addressed for fiscal years 2011-2013. EPA selects these priorities every three years in order to focus federal resources on the most important environmental problems where noncompliance is a significant contributing factor. Enforcement and compliance national priorities are selected according to three criteria: (1) Environmental impact; (2) Significant noncompliance; (3) Appropriate federal role. These selection criteria will be used to make decisions on enforcement and compliance priorities for 2011-2013. The priorities do not impose any legally binding requirements on any outside parties.

II. On What Is EPA Requesting Comment?

The U.S. Environmental Protection Agency, Office of Enforcement and Compliance Assurance, is collecting external comment on a set of candidate enforcement and compliance priorities for FY 2011-2013. http://www.epa.gov/compliance/data/planning/priorities/index.html. This preliminary list of candidate enforcement and compliance national priorities is based on analysis of proposals received from states, EPA staff, tribes, and on-line public comments. Enforcement national priorities are not limited to those priorities described on the above Web site. The public is invited to propose additional areas for consideration.

The Office of Enforcement and Compliance Assurance is committed to identifying a limited number of national priorities. Some current priority areas may be carried forward or refined during FY 2011-2013. For additional information on current FY 2008-2010 national priorities, please visit the Web site listed above.

III. How Was the Preliminary List of Enforcement National Priorities Developed?

During 2009, EPA regional offices consulted state and tribal regulatory partners about existing and potential new national program priorities for fiscal years 2011-2013. The Agency also issued letters requesting comments on new national priorities to state environmental, public health, and agricultural departments and each federally recognized Indian tribe. EPA conducted outreach regarding the national priority stakeholder engagement and selection process at the National Environmental Justice Advisory Committee (NEJAC) meeting in September 2009. In addition, a new Web site launched in August 2009 collected over 100 public comments on candidate national priorities, selection criteria, and information provided on EPA's Web site using blogging technology to collect external feedback. For additional details on public comments provided during the Fall 2009 comment period see: http://blog.epa.gov/enforcementnationalpriority.

IV. Can the Deadline for Comments Be Extended?

No. EPA and states jointly implement Federal environmental laws. EPA issues National Program Manager Guidance (NPM Guidance) so that EPA and states can effectively align their activities to achieve mutual goals. The NPM guidance must be released for state and public comment in February and finalized in April in order to allow states to direct resources appropriately according to their fiscal calendars. As a result, EPA must receive public comments by January 16, 2010 in order to make selections in keeping with this schedule.

Dated: December 23, 2009.
Lisa Lund,
Director, Office of Compliance.

[FR Doc. E9-31042 Filed 12-31-09; 8:45 am]

BILLING CODE 6560-50-P